DEPARTMENT OF TRANSPORTATION

Federal Highway Administration

23 CFR Parts 655 and 940

[FHWA Docket No. FHWA-99-5899]

RIN 2125-AE65

Intelligent Transportation System Architecture and Standards

AGENCY: Federal Highway Administration (FHWA), DOT.

ACTION: Final rule.

SUMMARY: The purpose of this document is to issue a final rule to implement section 5206(e) of the Transportation Equity Act for the 21st Century (TEA-21), enacted on June 9, 1998, which required Intelligent Transportation System (ITS) projects funded through the highway trust fund to conform to the National ITS Architecture and applicable standards. Because it is highly unlikely that the entire National ITS Architecture would be fully implemented by any single metropolitan area or State, this rule requires that the National ITS Architecture be used to develop a local implementation of the National ITS Architecture, which is referred to as a “regional ITS architecture.” Therefore, conformance with the National ITS Architecture is defined under this rule as development of a regional ITS architecture within four years after the first ITS project advancing to final design, and the subsequent adherence of ITS projects to the regional ITS architecture. The regional ITS architecture is based on the National ITS Architecture and consist of several parts including the system functional requirements and information exchanges with planned and existing systems and subsystems and identification of applicable standards, and would be tailored to address the local situation and ITS investment needs.

EFFECTIVE DATE: February 7, 2001.

FOR FURTHER INFORMATION CONTACT: For technical information: Mr. Bob Rupert, (202) 366-2194, Office of Travel Management (HOTM-1) and Mr. Michael Freitas, (202) 366-9292, ITS Joint Program Office (HOIT-1). For legal information: Mr. Wilbert Baccus, Office of the Chief Counsel (HCC-32), (202) 366-1346, Federal Highway Administration, 400 Seventh Street, SW., Washington, DC 20590. Office hours are from 8 a.m. to 4:30 p.m., e.t., Monday through Friday, except Federal holidays.

SUPPLEMENTARY INFORMATION:

Electronic Access and Filing

You may submit or retrieve comments online through the Docket Management System (DMS) at: http//dmses.dot.gov/submit. Acceptable formats include: MS Word (versions 95 to 97), MS Word for Mac (versions 6 to 8), Rich Text Format (RTF), American Standard Code Information Interchange (ASCII) (TXT), Portable Document Format (PDF), and WordPerfect (version 7 to 8). The DMS is available 24 hours each day, 365 days each year. Electronic submission and retrieval help and guidelines are available under the help section of the web site.

An electronic copy of this document may be downloaded by using a computer, modem, and suitable communications software from the Government Printing Office's Electronic Bulletin Board Service at (202) 512-1661. Internet users may also reach the Office of the Federal Register's home page at http://www.nara.gov/fedreg and the Government Printing Office's web page at: http://www.access.gpo.gov/nara. The document may also be viewed at the DOT's ITS web page at http://www.its.dot.gov.

Background

A notice of proposed rulemaking (NPRM) concerning this rule was published at 65 FR 33994 on May 25, 2000, and an extension of the comment period to September 23, 2000, was published at 65 FR 45942 on July 26, 2000.

In the NPRM on this rule, the FHWA had proposed that the regional ITS architecture follow from the ITS integration strategy proposed in another NPRM entitled “Statewide Transportation Planning; Metropolitan Transportation Planning” published at 65 FR 33922 on May 25, 2000. That rule is being developed according to a different schedule and will be issued separately. For this reason, all references to the proposed integration strategy have been removed from this rule. However, it is still the intent of this rule that regional ITS architectures be based on established, collaborative transportation planning processes. The other major changes to the final rule relate to options for developing a regional ITS architecture and the time allowed to develop such an architecture. Additional changes to the final rule largely deal with clarification of terms, improved language dealing with staging and grandfathering issues, and clarification of use of ITS standards.

Intelligent Transportation Systems represent the application of information processing, communications technologies, advanced control strategies, and electronics to the field of transportation. Information technology in general is most effective and cost beneficial when systems are integrated and interoperable. The greatest benefits in terms of safety, efficiency, and costs are realized when electronic systems are systematically integrated to form a whole in which information is shared with all and systems are interoperable.

In the transportation sector, successful ITS integration and interoperability require addressing two different and yet fundamental issues; that of technical and institutional integration. Technical integration of electronic systems is a complex issue that requires considerable up-front planning and meticulous execution for electronic information to be stored and accessed by various parts of a system. Institutional integration involves coordination between various agencies and jurisdictions to achieve seamless operations and/or interoperability.

In order to achieve effective institutional integration of systems, agencies and jurisdictions must agree on the benefits of ITS and the value of being part of an integrated system. They must agree on roles, responsibilities, and shared operational strategies. Finally, they must agree on standards and, in some cases, technologies and operating procedures to ensure interoperability. In some instances, there may be multiple standards that could be implemented for a single interface. In this case, agencies will need to agree on a common standard or agree to implement a technical translator that will allow dissimilar standards to interoperate. This coordination effort is a considerable task that will happen over time, not all at once. Transportation organizations, such as, transit properties, State and local transportation agencies, and metropolitan planning organizations must be fully committed to achieving institutional integration in order for integration to be successful. The transportation agencies must also coordinate with agencies for which transportation is a key, but not a primary part of their business, such as, emergency management and law enforcement agencies.

Successfully dealing with both the technical and institutional issues requires a high-level conceptual view of the future system and careful, comprehensive planning. The framework for the system is referred to as the architecture. The architecture defines the system components, key functions, the organizations involved, and the type of information shared between organizations and parts of the system. The architecture is, therefore, fundamental to successful system implementation, integration, and interoperability.

Additional background information may be found in docket number FHWA-99-5899.

The National ITS Architecture

The Intermodal Surface Transportation Efficiency Act of 1991, Public Law 102-240, 105 Stat. 1914, initiated Federal funding for the ITS program. The program at that time was largely focused on research and development and operational tests of technologies. A key part of the program was the development of the National ITS Architecture. The National ITS Architecture provides a common structure for the design of ITS systems. The architecture defines the functions that could be performed to satisfy user requirements and how the various elements of the system might connect to share information. It is not a system design, nor is it a design concept. However, it does define the framework around which multiple design approaches can be developed, each one specifically tailored to meet the needs of the user, while maintaining the benefits of a common approach.

The National ITS Architecture, Version 3.0 can be obtained from the ITS Joint Program Office of the DOT in CD-ROM format and on the ITS web site http://www.its.dot.gov. The effort to develop a common national system architecture to guide the evolution of ITS in the United States over the next 20 years and beyond has been managed since September 1993 by the DOT. The National ITS Architecture describes in detail what types of interfaces should exist between ITS components and how they will exchange information and work together to deliver the given ITS user service requirements.

The National ITS Architecture and standards can be used to guide multi-level government and private-sector business planners in developing and deploying nationally compatible systems. By ensuring system compatibility, the DOT hopes to accelerate ITS integration nationwide and develop a strong, diverse marketplace for related products and services.

It is highly unlikely that the entire National ITS Architecture will be fully implemented by any single metropolitan area or State. For example, the National ITS Architecture contains information flows for an Automated Highway System that is unlikely to be part of most regional implementations. However, the National ITS Architecture has considerable value as a framework for local governments in the development of regional ITS architectures by identifying the many functions and information sharing opportunities that may be desired. It can assist local governments with both of the key elements: technical interoperability and institutional coordination.

The National ITS Architecture, because it aids in the development of a high-level conceptual view of a future system, can assist local governments in identifying applications that will support their future transportation needs. From an institutional coordination perspective, the National ITS Architecture helps local transportation planners to identify other stakeholders who may need to be involved and to identify potential integration opportunities. From a technical interoperability perspective, the National ITS Architecture provides a logical and physical architecture and process specifications to guide the design of a system. The National ITS Architecture also identifies interfaces where standards may apply, further supporting interoperability.

Transportation Equity Act for the 21st Century

As noted above, section 5206(e) of the TEA-21, Public Law 105-178, 112 Stat. 457, requires ITS projects funded from the highway trust fund to conform to the National ITS Architecture, applicable or provisional standards, and protocols. One of the findings of Congress in section 5202 of the TEA-21, is that continued investment in systems integration is needed to accelerate the rate at which ITS is incorporated into the national surface transportation network. Two of the purposes of the ITS program, noted in section 5203(b) of the TEA-21, are to expedite the deployment and integration of ITS, and to improve regional cooperation and operations planning for effective ITS deployment. Use of the National ITS Architecture provides significant benefits to local transportation planners and deployers as follows:

1. The National ITS Architecture provides assistance with technical design. It saves considerable design time because physical and logical architectures are already defined.

2. Information flows and process specifications are defined in the National ITS Architecture, allowing local governments to accelerate the process of defining system functionality.

3. The architecture identifies standards that will support interoperability now and into the future, but it leaves selection of technologies to local decisionmakers.

4. The architecture provides a sound engineering framework for integrating multiple applications and services in a region.

ITS Architecture and Standards NPRM

Discussion of Comments

The FHWA received 105 comments on this docket from a wide range of stakeholders, including major industry associations, State departments of transportation, Metropolitan Planning Organizations (MPOs), and local agencies. The comments were generally favorable about the scope and content, but requested additional clarification and guidance on implementation of specific items. On many issues, some commenters wanted more specific requirements, while others wanted more flexibility. Most commenters, including major industry associations and public sector agencies, agreed with the overall scope, but some felt that the specifics might be difficult to implement and asked for clarification of key terms. A few commenters wanted the FHWA to reduce the number of requirements or convert the rulemaking into a guidance activity until more ITS deployment experience is gained.

In summary, the FHWA received a large number of generally favorable comments about the NPRM that suggested minor specific changes and expressed a need for further guidance on implementation. Since the general tenor of the comments was positive, the FHWA has kept the scope of the NPRM and made appropriate clarifications to the text of the final rule to address concerns raised in comments. In response to the many comments requesting it, starting in early 2001, the FHWA will also provide a program of guidance, training, and technical support to assist with the implementation of this rule. The following is a detailed discussion of the comments and their disposition, organized by subject matter.

Section 940.3 Definitions

ITS Project. There were 34 comments submitted to the docket concerning the definition of an ITS project. Many of the commenters felt the definition was not clear enough, was too broad, or was too subject to interpretation. Some comments questioned how much of a project's budget would have to be spent on ITS before a project would be considered an ITS project. Some suggested specific language to more narrowly define an ITS project by focusing on the portion of the overall project that is actually ITS or by suggesting language that would narrow the definition of an ITS project to only include projects which introduce new or changed integration opportunities.

Since the intent of this rule and the supporting legislation is to facilitate the deployment of integrated ITS systems, it is the position of the FHWA that the definition of an ITS project must be fairly broad to include any ITS system being funded with highway trust fund dollars. It is only by properly considering all planned ITS investments in the development of a regional ITS architecture that the integration opportunities and needs can even be identified. This consideration should be carried out in the development of an architecture prior to the specific project being advanced. If, in the development of a regional ITS architecture, it is determined that a specific planned project offers no real integration opportunities for the region, then the impact of this rule on that specific project is minimal.

As a response to the comments concerning the clarity of the definition, the definition of an ITS project has been slightly modified to remove the examples since they were considered misleading. The FHWA recognizes that any definition will be subject to interpretation by the stakeholders and acknowledges the need for guidance in this area to ensure clear and consistent interpretation of this rule. Guidance on what constitutes an ITS project (including examples) will be developed to assist the various stakeholders, including the FHWA Division Offices, to better understand what projects should be considered ITS projects.

Region. There were 26 comments submitted related to the definition of a region. Seven comments supported the open definition provided in the NPRM, arguing that the possible integration opportunities in an area should define the region and that there were too many possible variations to allow a restrictive definition. Six commenters who expressed concern over varying conditions interpreted the definition to mean Metropolitan Planning Area (MPA). Five comments suggested an MPA was too restrictive. Eight other comments indicated that the proposed definition of a region did not clearly identify what entity would have the lead in developing a regional ITS architecture or thought the definition implied the MPO should have the lead. Nine comments suggested various limits or boundaries to fit specific situations. Ten comments expressed a need for greater clarification of the definition for a region.

The intent of the proposed definition was to allow considerable flexibility on the part of the stakeholders in defining the boundaries of a region to best meet their identified integration opportunities. While there was no intent to generally restrict the definition to MPAs or States, the FHWA determined that regional ITS architectures should be based on an integration strategy that was developed by an MPO or State as part of its transportation planning process.

Given that the final rule does not require or reference an integration strategy, the FHWA feels a need to provide more specific guidance on the definition of a region. As such, the definition of a region has been revised to indicate that the MPA should be the minimum area considered when establishing the boundaries of a region for purposes of developing a regional ITS architecture within a metropolitan area. This should not be interpreted to mean that a region must be an MPA, or no less than an MPA, but the MPA and all the agencies and jurisdictions within the MPA should be at least considered for inclusion in the process of developing a regional ITS architecture within a metropolitan area. This rule is silent on other possible limits or minimum areas for defining a region, relying on the flexible nature of this rule to accommodate those special circumstances. The FHWA also acknowledges it is possible that overlapping regions could be defined and overlapping regional ITS architectures be developed to meet the needs of the regions.

Other Definitions. There were 20 comments suggesting that other terms used in the NPRM be defined. These included “interoperability,” “standards,” “concept of operations,” “conceptual design,” and “integration strategy.” Several of these are no longer used in the final rule and, therefore, were not defined. Other terms, such as “interoperability” and “standards,” were determined to be common terms whose definition did not effect the implementation of the final rule. Furthermore, language regarding standards conformity has been clarified in the body of the final rule.

Section 940.5 Policy

Twenty-eight commenters addressed the issue of consistency between the two related FHWA notices of proposed rulemaking (23 CFR parts 940 and 1410) and the Federal Transit Administration's (FTA) notice (FTA Docket No. FTA-99-6417) on National ITS Architecture published at 65 FR 34002 on May 25, 2000. The comments revealed a lack of understanding about the relationship between the regional ITS architecture and the integration strategy proposed as part of the revisions to FHWA's transportation planning rules. There were five comments suggesting a single DOT rule addressing how all ITS projects would meet the National ITS Architecture conformance requirements of the TEA-21 instead of an FHWA rule for highway projects and an FTA policy for transit projects. Four other comments acknowledged the need for two policies, but recommended they articulate the same process.

A final transportation planning rule is being developed on a different schedule than this rule, and comments regarding the portions of the National ITS Architecture conformity process included in the transportation planning rule will be addressed as it proceeds toward issuance. The FHWA and FTA have chosen to go forward with policies that have been developed cooperatively to implement the National ITS Architecture conformance process. This FHWA rule and the parallel FTA policy have been developed without reference to the proposed changes to the transportation planning process, including no mention of the development of an integration strategy. However, the policy statement of this rule notes a link to established transportation planning processes, as provided under 23 CFR part 450. This rule fully supports these collaborative methods for establishing transportation goals and objectives, and does not provide a mechanism for introducing projects outside of the transportation planning processes.

This final rule on National ITS Architecture conformance and the FTA policy on the same subject have been developed cooperatively and coordinated among the agencies to ensure compatible processes. Any differences between this rule and the parallel FTA policy are intended to address differences in highway and transit project development and the way the FHWA and the FTA administer projects and funds.

Fifteen commenters questioned the need for an integration strategy, and the relationship between the strategy and the regional ITS architecture.

Given the fact that proposed revisions to the FHWA's transportation planning rules are being developed according to a different schedule, this rule has been revised to remove any references to an integration strategy. Comments regarding the integration strategy will be addressed in the final transportation planning rule, and the discussion of the regional ITS architecture in § 940.9 has been revised to clarify its content.

Section 940.7 Applicability

A few commenters noted that the proposed rule had not addressed the TEA-21 language that allows for the Secretary to authorize certain exceptions to the conformity provision. These exceptions relate to those projects designed to achieve specific research objectives or, if three stated criteria are met, to those intended to upgrade or expand an ITS system in existence on the date of enactment of the TEA-21. The legislation also included a general exemption for funds used strictly for operations and maintenance of an ITS system in existence on the date of enactment of the TEA-21.

The FHWA acknowledges this omission and has included the appropriate language in this section of the rule.

Section 940.9 Regional ITS Architecture

Several comments were received related to the way the proposed rule referred to developing regional ITS architectures. Eight comments, from State agencies and metropolitan planning organizations, supported an incremental approach to developing regional ITS architectures, starting with project ITS architectures and building them together. Four other comments, from metropolitan planning organizations and industry associations, noted that an ad hoc regional ITS architecture developed incrementally through projects would result in an architecture less robust than if there were a single, initial effort to develop it.

Also, thirteen comments from the Association of American State Highway and Transportation Officials (AASHTO) and a number of States recommended extending the time for developing regional ITS architectures, as the proposed two year implementation would be too short. Ten of the commenters preferred four years in order to acquire the necessary resources for developing regional ITS architectures.

Most commenters were in agreement with the content of the regional ITS architecture as defined in the proposed rule. However, there were 19 comments that dealt with confusion over the definition of both “conceptual design” and “concept of operations.” In addition, there were 17 other comments on the makeup of the stakeholders, involvement of the private sector, and the need and desirability of “agreements” between stakeholders.

The comments indicated confusion regarding the development of regional ITS architectures, and especially so in discussing the period of time for their development. Therefore, the final rule has clarified the time period for developing regional ITS architectures by adopting the proposed extension to four years subsequent to beginning to deploy ITS projects (§ 940.9(c)), or four years from the effective date of this rule for those areas that are currently deploying ITS projects (§ 940.9(b)). In clarifying the time for development, this rule has eliminated any references to specific methods for developing regional ITS architectures. By not prescribing any methods, the rule provides flexibility to a region in deciding how it should develop its regional ITS architecture. Guidance and information related to developing regional ITS architectures is available from FHWA Division Offices and from the ITS web site, http://www.its.dot.gov, and will be expanded to provide assistance in meeting the intent of the rule.

Both the terms “conceptual design” and “concept of operations” have been deleted from the final rule. In their stead are descriptions of the content that is expected to form the basis for a regional ITS architecture. This content has not significantly changed from that defined in the NPRM but is now contained in § 940.9(d). The level of detail required is to the architecture flow level as defined in the National ITS Architecture. The regional ITS architecture must identify how agencies, modes, and systems will interact and operate if the architecture is to fulfill the objective of promoting ITS integration within a region.

The relevant stakeholders for a region will vary from region to region. The list articulated in § 940.9(a) is representative only and not meant to be inclusive or exclusive. On the specific issue of private sector participation, if the private sector is deploying ITS systems in a region or otherwise providing an ITS-based service, it would be appropriate to engage them in the development of a regional ITS architecture. Because of these variations from region to region, the FHWA felt it inappropriate to attempt to define an all inclusive list of stakeholders. The group of relevant stakeholders will be a function of how the region is defined and how transportation services are provided to the public. Section 940.9(d)(4) specifies that in the development of the regional ITS architecture, it shall include “any agreements (existing or new) required for operations.” The formalization of these types of agreements is at the discretion of the region and participating stakeholders.

There were 14 comments from a broad range of organizations questioning how existing regional ITS architectures, strategic plans or ITS Early Deployment Plans would be treated under this rule. It is the intent of the FHWA that any existing ITS planning documents should be used to the extent practical to meet the requirements of this rule. If a regional ITS architecture is in place, is up to date, and addresses all the requirements of a regional ITS architecture as described in this rule, there is no requirement to develop a “new” one. If the existing regional ITS architecture does not address all the requirements of the rule, it may be possible to update it so that it meets the regional ITS architecture requirements of this rule. What is necessary is that the end result is an architecture that meets the requirements of this rule and properly addresses the ITS deployments and integration opportunities of that region. This issue is specifically addressed in § 940.9(e) of this rule.

There were five comments related to the impact of this rule on legacy systems (i.e., ITS systems already in place) and requesting some sort of “grandfathering” for them. The language in § 940.11(g) of the final rule clarifies the grandfathering or staging aspects of the process. The final rule does not require any changes or modifications to existing systems to conform to the National ITS Architecture. It is very likely that a regional ITS architecture developed by the local agencies and other stakeholders would call for changes to legacy systems over time to support desired integration. However, such changes would not be required by the FHWA; they would be agreed upon by the appropriate stakeholders as part of the development of the regional ITS architecture.

There were 15 comments dealing with the maintenance process and status of the National ITS Architecture. Two comments suggested the need for the FHWA to formally adopt the National ITS Architecture. Four other comments also supported the formalization of a process for maintaining or updating it with the full opportunity for public input.

Conformance with the National ITS Architecture is interpreted to mean the use of the National ITS Architecture to develop a regional ITS architecture, and the subsequent adherence of all ITS projects to that regional ITS architecture. This rule requires that the National ITS Architecture be used as a resource in developing a regional ITS architecture.

As a technical resource, it is important that the National ITS Architecture be maintained and updated as necessary in response to user input or to add new user services, but formal adoption of the National ITS Architecture is not necessary. However, the FHWA recognizes the need to maintain the National ITS Architecture and to establish an open process for configuration control that includes public participation. The process currently used by the DOT to maintain the National ITS Architecture is very rigorous and involves significant public participation. That process is currently being reviewed by the DOT with the intent of establishing a configuration management process that engages the public at key stages and ensures a consensus for updating the National ITS Architecture.

Four comments suggested that this rule should not be implemented until the National ITS Architecture was complete. The National ITS Architecture will never stop evolving since there always is a potential need to regularly update it as more is learned about ITS deployment. The FHWA believes the National ITS Architecture is developed to a stage where it can be used as a resource in developing regional ITS architectures, as required by this rule.

Seventeen comments asked the FHWA to define the agency that is responsible for the development and maintenance of the regional ITS architecture; specifically MPOs and/or the State as those entities that are already responsible for the planning process.

The FHWA did not define the responsibility for either creating or maintaining the regional ITS architecture to a specific entity because of the diversity of transportation agencies and their roles across the country. It is recognized that in some regions traditional State and MPO boundaries may not meet the needs of the traveling public or the transportation community. This is also why the FHWA did not rigidly define a region. The FHWA encourages MPOs and States to include the development of their regional ITS architectures as part of their transportation planning processes. However, the decision is best left to the region to determine the approach that best reflects their needs, as indicated in § 940.9. It is clear that the value of a regional ITS architecture will only be realized if that architecture is maintained through time. However, in accepting Federal funds under title 23, U.S.C., the State is ultimately responsible for complying with Federal requirements, as provided in 23 U.S.C. 106 and 133.

Four commenters noted that the proposed rule did not adequately address planning for, or committing to, a defined level of operations and maintenance.

The final rule addresses this concern on two primary levels, in the development of the regional ITS architecture and the development of individual projects. Section 940.9(d)(4) specifies that in the development of the regional ITS architecture, it shall include “any agreements (existing or new) required for operations.” The formalization of these types of agreements is at the discretion of the region and participating stakeholders.

Also, relative to operations and management at a project level, § 940.11(c)(7) specifies that the systems engineering analysis (required of all ITS projects) includes “procedures and resources necessary for the operations and management of the system.”

Section 940.11 Project Implementation

In addition to the comments on regional ITS architecture development noted above, the docket received 86 comments on systems engineering and project implementation. These comments revealed that the structure of the NPRM in discussing regional ITS architecture development, project systems engineering analysis, and project implementation was confusing and difficult to read.

To clarify these portions of the rule, the systems engineering and project implementation sections of the NPRM have been combined into § 940.11, Project Implementation. Also, paragraphs that were in the regional ITS architecture section of the NPRM that discussed major ITS projects and the requirements for developing project level ITS architectures have been rewritten to clarify their applicability. Since these paragraphs deal with project development issues, they have been moved to § 940.11(e). A definition for “project level ITS architecture” was added in § 940.3 and a description of its contents provided in § 940.11(e).

The docket received 33 comments regarding systems engineering and the systems engineering analysis section of the proposed rule. Most of the comments related to the definition, the process not being necessary except for very large projects, and confusion as to how these requirements relate to existing FHWA policy.

In response to the docket comments, the definition of systems engineering in § 940.3 has been clarified and is more consistent with accepted practice. In order to provide consistency in the regional ITS architecture process, the systems engineering analysis detailed in §§ 940.11(a) through 940.11(c) must apply to all ITS projects regardless of size or budget. However, the analysis should be on a scale commensurate with project scope. To allow for the greatest flexibility at the State and local level, in § 940.11(c), a minimum number of elements have been clearly identified for inclusion in the systems engineering analysis. Many of those elements are currently required as provided in 23 CFR 655.409, which this rule replaces. Recognizing the change in some current practices this type of analysis will require, the FHWA intends to issue guidance, training, and technical support in early 2001 to help stakeholders meet the requirements of the final rule.

Fifty-three comments were submitted regarding ITS standards and interoperability tests. The commenters expressed concern about requiring the use of ITS standards and interoperability tests prematurely, the impact on legacy systems of requiring ITS standards, and confusion regarding the term “adopted by the DOT.”

In response to the comments, the FHWA has significantly modified the final rule to eliminate reference to the use of standards and interoperability tests prior to adoption in § 940.11(f). Section 940.11(g) addresses the applicability of standards to legacy systems. It is not the intent of the DOT to formally adopt any standard before the standard is mature; and also, not all ITS standards should, or will, be formally adopted by the DOT. Formal adoption of a standard means that the DOT will go through the rulemaking process, including a period of public comment, for all standards that are considered candidates for adoption.

The DOT has developed a set of criteria to determine when a standard could be considered for formal adoption. These criteria include, at a minimum, the following elements:

1. The standard has been approved by a Standard Development Organization (SDO).

2. The standard has been successfully tested in real world applications as appropriate.

3. The standard has received some degree of acceptance by the community served by the standard.

4. Products exist to implement the standard.

5. There is adequate documentation to support the use of the standard.

6. There is training available in the use of the standard where applicable.

Therefore, the intent of the rule is to require the use of a standard only when these criteria have been met, and there has been a separate rulemaking on adoption of the standard.

The only interoperability tests that are currently contemplated by the DOT are those associated with the Commercial Vehicle Operations (CVO) program. These tests are currently being used by States deploying CVO systems and will follow a similar set of criteria for adoption as those defined for standards.

Section 940.13 Project Administration

There were nine comments related to how conformity with the final rule would be determined, and by whom. There were 11 comments about how conformity with the regional ITS architecture would be determined, and by whom. Six comments specifically suggested methods for determining conformance, including a process similar to current Federal planning oversight procedures. Six other commenters suggested that determination be made by the MPO or State. For either case, the comments reflected a lack of clarity as to what documentation would be necessary. There were six related comments suggesting the level of documentation be commensurate with the scale of the planned ITS investments in the region.

In § 940.13 of the final rule, the FHWA has attempted to clarify the process for determining conformance. Conformance of an ITS project with a regional ITS architecture shall be made prior to authorization of funding for project construction or implementation as provided in 23 U.S.C. 106 and 133. We do not intend to create new oversight procedures beyond those provided in 23 U.S.C. 106 and 133, but in those cases where oversight and approval for ITS projects is assumed by the State, the State will be responsible for ensuring compliance with this regulation and the FHWA's oversight will be through existing processes.

There were 14 comments concerning the documentation requirements of the proposed rule and generally suggesting they be reduced. Certainly the development of a regional ITS architecture and evidence of conformance of a specific project to that regional ITS architecture implies some level of documentation be developed. However, to allow flexibility on the part of the State or local agency in demonstrating compliance with the final rule, no specific documentation is required to be developed or submitted to the FHWA for review or approval. The FHWA recognizes the need to be able to scale the regional ITS architecture and the associated documentation to the needs of the region. Section 940.9(a) of the final rule contains specific language allowing such scaling.

Summary of Requirements

I. The Regional ITS Architecture

This final rule on the ITS Architecture and Standards requires the development of a local implementation of the National ITS Architecture referred to as a regional ITS architecture. The regional ITS architecture is tailored to meet local needs, meaning that it does not address the entire National ITS Architecture and can also address services not included in the National ITS Architecture. The regional ITS architecture shall contain a description of the region and the identification of the participating agencies and other stakeholders; the roles and responsibilities of the participating agencies and other stakeholders; any agreements needed for operation; system functional requirements; interface requirements and information exchanges with planned and existing systems; identification of applicable standards; and the sequence of projects necessary for implementation. Any changes made in a project design that impact the regional ITS architecture shall be identified and the appropriate revisions made and agreed to in the regional ITS architecture.

Any region that is currently implementing ITS projects shall have a regional ITS architecture within four years of the effective date of this rule. All other regions not currently implementing ITS projects shall have a regional ITS architecture within four years of the first ITS project for that region advancing to final design. In this context, a region is a geographical area that is based on local needs for sharing information and coordinating operational strategies among multiple projects. A region can be specified at a metropolitan, Statewide, multi-State, or corridor level. Within a metropolitan area, the metropolitan planning area should be the minimum area that is considered when establishing the boundaries of a region for purposes of developing a regional ITS architecture. A regional approach promotes integration of transportation systems. The size of the region should reflect the breadth of the integration of transportation systems.

II. Project Development

Additionally, this rule requires that all ITS projects be developed using a systems engineering analysis. All ITS projects that have not yet advanced to final design are required to conform to the system engineering requirements in § 940.11 upon the effective date of this rule. Any ITS project that has advanced to final design by the effective date of this rule is exempt from the requirements of § 940.11. When the regional ITS architecture is completed, project development will be based on the relevant portions of it which the project implements. Prior to completion of the regional ITS architecture, major ITS projects will develop project level ITS architectures that are coordinated with the development of the regional ITS architecture. ITS projects will be required to use applicable ITS standards and interoperability tests that have been officially adopted by the DOT. Where multiple standards exist, it will be the responsibility of the stakeholders to determine how best to achieve the interoperability they desire.

Rulemaking Analyses and Notices

Executive Order 12866 (Regulatory Planning and Review) and DOT Regulatory Policies and Procedures

The FHWA has determined that this action is not a significant regulatory action within the meaning of Executive Order 12866 or significant within the meaning of the Department of Transportation's regulatory policies and procedures. It is anticipated that the economic impact of this rulemaking will be minimal. This determination is based upon preliminary and final regulatory assessments prepared for this action that indicate that the annual impact of the rule will not exceed $100 million nor will it adversely affect the economy, a sector of the economy, productivity, jobs, the environment, public health, safety, or State, local, or tribal governments. In addition, the agency has determined that these changes will not interfere with any action taken or planned by another agency and will not materially alter the budgetary impact of any entitlements, grants, user fees, or loan programs. Copies of the preliminary and final regulatory assessments are included in the docket.

Costs

The FHWA prepared a preliminary regulatory evaluation (PRE) for the NPRM and comments were solicited. That analysis estimated the total costs of this rule over 10 years to be between $38.1 million and $44.4 million (the net present value over 10 years was between $22.3 million and $31.2 million). The annual constant dollar impact was estimated to range between $3.2 million and $4.4 million. We believe that the cost estimates as stated in the PRE are negligible. The FHWA received only one comment in response to the PRE. That commenter, the Capital District Transportation Committee of Albany, New York suggested that our cost estimates were too low, but provided no further detail or rationale which would cause us to reconsider or increase our cost estimates in the initial regulatory evaluation.

These 10-year cost estimates set forth in the PRE included transportation planning cost increases, to MPOs ranging from $10.8 million to $13.5 million, and to States from $5.2 million to $7.8 million associated with our initial requirement to develop an ITS integration strategy that was proposed as part of the metropolitan and statewide planning rulemaking effort. The agency now plans to advance that proposed ITS integration strategy in the planning rule on a different time schedule than this final rule. Thus, the costs originally set forth in the PRE for the ITS integration strategy have been eliminated from the final cost estimate in the final regulatory evaluation (FRE) for this rule.

In the FRE, the agency estimates the cost of this rule to be between $1 million an $16 million over ten years, which are the estimated costs of this rule to implementing agencies for the development of the regional ITS architectures. These costs do not include any potential additional implementation costs for individual projects which are expected to be minimal and were extremely difficult to estimate. Thus, the costs to the industry are less than that originally estimated in the agency's NPRM.

Benefits

In the PRE, the FHWA indicated that the non-monetary benefits derived from the proposed action included savings from the avoidance of duplicative development, reduced overall development time, and earlier detection of potential incompatibilities. We stated that, as with project implementation impacts, the benefits of the rule are very difficult to quantify in monetary terms. Thus, we estimated that the coordination guidance provided through implementation of the rule could provide savings of approximately $150,000 to any potential entity seeking to comply with the requirements of section 5206(e) of the TEA-21 as compared with an entity having to undertake compliance individually. The costs may be offset by benefits derived from the reduction of duplicative deployments, reduced overall development time, and earlier detection of potential incompatibilities.

In developing a final regulatory evaluation for this action, we did not denote a significant change in any of the benefits anticipated by this rule. This is so notwithstanding the fact that our planning costs for the ITS integration strategy have been eliminated from the final cost estimate. The primary benefits of this action that result from avoidance of duplicative development, reduced overall development time, and earlier detection of potential incompatibilities will remain the same.

In sum the agency believes that the option chosen in this action will be most effective at helping us to implement the requirements of section 5206(e) of the TEA-21. In developing the rule, the FHWA has sought to allow broad discretion to those entities impacted, in levels of response and approach that are appropriate to particular plans and projects, while conforming to the requirements of the TEA-21. The FHWA has considered the costs and benefits of effective implementation of ITS through careful and comprehensive planning. Based upon the information above, the agency anticipates that the economic impact associated with this rulemaking action is minimal and a full regulatory evaluation is not necessary.

Regulatory Flexibility Act

In compliance with the Regulatory Flexibility Act (5 U.S.C. 601-612), the FHWA has evaluated, through the regulatory assessment, the effects of this action on small entities and has determined that this action will not have a significant economic impact on a substantial number of small entities. Small businesses and small organizations are not subject to this rule, which applies to government entities only. Since § 940.9(a) of this rule provides for regional ITS architectures to be developed on a scale commensurate with the scope of ITS investment in the region, and § 940.11(b) provides for the ITS project systems engineering analysis to be on a scale commensurate with the project scope, compliance requirements will vary with the magnitude of the ITS requirements of the entity. Small, less complex ITS projects have correspondingly small compliance documentation requirements, thereby accommodating the interest of small government entities. Small entities, primarily transit agencies, are accommodated through these scaling provisions that impose only limited requirements on small ITS activities. For these reasons, the FHWA certifies that this action will not have a significant impact on a substantial number of small entities.

Unfunded Mandates Reform Act of 1995

This action does not impose unfunded mandates as defined by the Unfunded Mandates Reform Act of 1995 (Pub. L. 104-4, March 22, 1995, 109 Stat. 48). This rule will not result in an expenditure by State, local, and tribal governments, in the aggregate, or by the private sector, of $100 million or more in any one year.

Executive Order 13132 (Federalism)

This action has been analyzed in accordance with the principles and criteria contained in Executive Order 13132, dated August 4, 1999, and the FHWA has determined that this action does not have sufficient federalism implications to warrant the preparation of a federalism assessment. The FHWA has also determined that this action does not preempt any State law or State regulation or affect the State's ability to discharge traditional State governmental functions.

Executive Order 12372 (Intergovernmental Review)

Catalog of Federal Domestic Assistance Program Number 20.205, Highway planning and construction. The regulations implementing Executive Order 12372 regarding intergovernmental consultation on Federal programs and activities apply to this program.

Paperwork Reduction Act of 1995

This action does not contain information collection requirements for the purposes of the Paperwork Reduction Act of 1995, 44 U.S.C. 3501-3520.

Executive Order 12988 (Civil Justice Reform)

This action meets applicable standards in sections 3(a) and 3(b)(2) of Executive Order 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Executive Order 12630 (Taking of Private Property)

This rule does not effect a taking of private property or otherwise have taking implications under Executive Order 12630, Government Actions and Interference with Constitutionally Protected Property Rights.

National Environmental Policy Act

The agency has analyzed this action for the purposes of the National Environmental Policy Act of 1969, as amended (42 U.S.C. 4321-4347), and has determined that this action will not have any effect on the quality of the environment.

Regulation Identification Number

A regulation identification number (RIN) is assigned to each regulatory action listed in the Unified Agenda of Federal Regulations. The Regulatory Information Service Center publishes the Unified Agenda in April and October of each year. The RIN contained in the heading of this document can be used to cross reference this proposed action with the Unified Agenda.

List of Subjects

23 CFR Part 655

Design standards, Grant programs-transportation, Highways and roads, Incorporation by reference, Signs and symbols, Traffic regulations.

23 CFR Part 940

Design standards, Grant programs-transportation, Highways and roads, Intelligent transportation systems.

Issued on: January 2, 2001.
Kenneth R. Wykle,
Federal Highway Administrator.

In consideration of the foregoing, the FHWA amends Chapter I of title 23, Code of Federal Regulations, as set forth below:

PART 655—[AMENDED]

1. The authority citation for part 655 continues to read as follows:

Authority: 23 U.S.C. 101(a), 104, 109(d), 114(a), 217, 315, and 402(a); 23 CFR 1.32, and 49 CFR 1.48(b).

Subpart D—[Removed and reserved]

2. Remove and reserve subpart D of part 655, consisting of §§ 655.401, 655.403, 655.405, 655.407, 655.409, 655.411.

3. Add a new subchapter K, consisting of part 940, to read as follows:

Subchapter K—Intelligent Transportation Systems

PART 940—INTELLIGENT TRANSPORTATION SYSTEM ARCHITECTURE AND STANDARDS

Sec.
940.1 Purpose.
940.3 Definitions.
940.5 Policy.
940.7 Applicability.
940.9 Regional ITS architecture.
940.11 Project implementation.
940.13 Project administration.

Authority: 23 U.S.C. 101, 106, 109, 133, 315, and 508; sec 5206(e), Public Law 105-178, 112 Stat. 457 (23 U.S.C. 502 note); and 49 CFR 1.48.

§ 940.1 Purpose.

This regulation provides policies and procedures for implementing section 5206(e) of the Transportation Equity Act for the 21st Century (TEA-21), Public Law 105-178, 112 Stat. 457, pertaining to conformance with the National Intelligent Transportation Systems Architecture and Standards.

§ 940.3 Definitions.

Intelligent Transportation System (ITS) means electronics, communications, or information processing used singly or in combination to improve the efficiency or safety of a surface transportation system.

ITS project means any project that in whole or in part funds the acquisition of technologies or systems of technologies that provide or significantly contribute to the provision of one or more ITS user services as defined in the National ITS Architecture.

Major ITS project means any ITS project that implements part of a regional ITS initiative that is multi-jurisdictional, multi-modal, or otherwise affects regional integration of ITS systems.

National ITS Architecture (also “national architecture”) means a common framework for ITS interoperability. The National ITS Architecture comprises the logical architecture and physical architecture which satisfy a defined set of user services. The National ITS Architecture is maintained by the United States Department of Transportation (DOT) and is available on the DOT web site at http://www.its.dot.gov.

Project level ITS architecture is a framework that identifies the institutional agreement and technical integration necessary to interface a major ITS project with other ITS projects and systems.

Region is the geographical area that identifies the boundaries of the regional ITS architecture and is defined by and based on the needs of the participating agencies and other stakeholders. In metropolitan areas, a region should be no less than the boundaries of the metropolitan planning area.

Regional ITS architecture means a regional framework for ensuring institutional agreement and technical integration for the implementation of ITS projects or groups of projects.

Systems engineering is a structured process for arriving at a final design of a system. The final design is selected from a number of alternatives that would accomplish the same objectives and considers the total life-cycle of the project including not only the technical merits of potential solutions but also the costs and relative value of alternatives.

§ 940.5 Policy.

ITS projects shall conform to the National ITS Architecture and standards in accordance with the requirements contained in this part. Conformance with the National ITS Architecture is interpreted to mean the use of the National ITS Architecture to develop a regional ITS architecture, and the subsequent adherence of all ITS projects to that regional ITS architecture. Development of the regional ITS architecture should be consistent with the transportation planning process for Statewide and Metropolitan Transportation Planning.

§ 940.7 Applicability.

(a) All ITS projects that are funded in whole or in part with the highway trust fund, including those on the National Highway System (NHS) and on non-NHS facilities, are subject to these provisions.

(b) The Secretary may authorize exceptions for:

(1) Projects designed to achieve specific research objectives outlined in the National ITS Program Plan under section 5205 of the TEA-21, or the Surface Transportation Research and Development Strategic Plan developed under 23 U.S.C. 508; or

(2) The upgrade or expansion of an ITS system in existence on the date of enactment of the TEA-21, if the Secretary determines that the upgrade or expansion:

(i) Would not adversely affect the goals or purposes of Subtitle C (Intelligent Transportation Systems Act of 1998) of the TEA-21;

(ii) Is carried out before the end of the useful life of such system; and

(iii) Is cost-effective as compared to alternatives that would meet the conformity requirement of this rule.

(c) These provisions do not apply to funds used for operations and maintenance of an ITS system in existence on June 9, 1998.

§ 940.9 Regional ITS architecture.

(a) A regional ITS architecture shall be developed to guide the development of ITS projects and programs and be consistent with ITS strategies and projects contained in applicable transportation plans. The National ITS Architecture shall be used as a resource in the development of the regional ITS architecture. The regional ITS architecture shall be on a scale commensurate with the scope of ITS investment in the region. Provision should be made to include participation from the following agencies, as appropriate, in the development of the regional ITS architecture: Highway agencies; public safety agencies (e.g., police, fire, emergency/medical); transit operators; Federal lands agencies; State motor carrier agencies; and other operating agencies necessary to fully address regional ITS integration.

(b) Any region that is currently implementing ITS projects shall have a regional ITS architecture by February 7, 2005.

(c) All other regions not currently implementing ITS projects shall have a regional ITS architecture within four years of the first ITS project for that region advancing to final design.

(d) The regional ITS architecture shall include, at a minimum, the following:

(1) A description of the region;

(2) Identification of participating agencies and other stakeholders;

(3) An operational concept that identifies the roles and responsibilities of participating agencies and stakeholders in the operation and implementation of the systems included in the regional ITS architecture;

(4) Any agreements (existing or new) required for operations, including at a minimum those affecting ITS project interoperability, utilization of ITS related standards, and the operation of the projects identified in the regional ITS architecture;

(5) System functional requirements;

(6) Interface requirements and information exchanges with planned and existing systems and subsystems (for example, subsystems and architecture flows as defined in the National ITS Architecture);

(7) Identification of ITS standards supporting regional and national interoperability; and

(8) The sequence of projects required for implementation.

(e) Existing regional ITS architectures that meet all of the requirements of paragraph (d) of this section shall be considered to satisfy the requirements of paragraph (a) of this section.

(f) The agencies and other stakeholders participating in the development of the regional ITS architecture shall develop and implement procedures and responsibilities for maintaining it, as needs evolve within the region.

§ 940.11 Project implementation.

(a) All ITS projects funded with highway trust funds shall be based on a systems engineering analysis.

(b) The analysis should be on a scale commensurate with the project scope.

(c) The systems engineering analysis shall include, at a minimum:

(1) Identification of portions of the regional ITS architecture being implemented (or if a regional ITS architecture does not exist, the applicable portions of the National ITS Architecture);

(2) Identification of participating agencies roles and responsibilities;

(3) Requirements definitions;

(4) Analysis of alternative system configurations and technology options to meet requirements;

(5) Procurement options;

(6) Identification of applicable ITS standards and testing procedures; and

(7) Procedures and resources necessary for operations and management of the system.

(d) Upon completion of the regional ITS architecture required in §§ 940.9(b) or 940.9(c), the final design of all ITS projects funded with highway trust funds shall accommodate the interface requirements and information exchanges as specified in the regional ITS architecture. If the final design of the ITS project is inconsistent with the regional ITS architecture, then the regional ITS architecture shall be updated as provided in the process defined in § 940.9(f) to reflect the changes.

(e) Prior to the completion of the regional ITS architecture, any major ITS project funded with highway trust funds that advances to final design shall have a project level ITS architecture that is coordinated with the development of the regional ITS architecture. The final design of the major ITS project shall accommodate the interface requirements and information exchanges as specified in this project level ITS architecture. If the project final design is inconsistent with the project level ITS architecture, then the project level ITS architecture shall be updated to reflect the changes. The project level ITS architecture is based on the results of the systems engineering analysis, and includes the following:

(1) A description of the scope of the ITS project;

(2) An operational concept that identifies the roles and responsibilities of participating agencies and stakeholders in the operation and implementation of the ITS project;

(3) Functional requirements of the ITS project;

(4) Interface requirements and information exchanges between the ITS project and other planned and existing systems and subsystems; and

(5) Identification of applicable ITS standards.

(f) All ITS projects funded with highway trust funds shall use applicable ITS standards and interoperability tests that have been officially adopted through rulemaking by the DOT.

(g) Any ITS project that has advanced to final design by February 7, 2001 is exempt from the requirements of paragraphs (d) through (f) of this section.

§ 940.13 Project administration.

(a) Prior to authorization of highway trust funds for construction or implementation of ITS projects, compliance with § 940.11 shall be demonstrated.

(b) Compliance with this part will be monitored under Federal-aid oversight procedures as provided under 23 U.S.C. 106 and 133.

[FR Doc. 01-391 Filed 1-5-01; 8:45 am]

BILLING CODE 4910-22-P